FEDERAL RESERVE SYSTEM

Agency information collection activities: Announcement of Board approval under delegated authority and submission to OMB

AGENCY: Board of Governors of the Federal Reserve System

SUMMARY: Background

Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer --Michelle Shore--Division of Research and Statistics, Board of Governors of the Federal Reserve System, Washington, DC 20551 (202-452-3829).

OMB Desk Officer--Mark Menchik--Office of Information and Regulatory Affairs, Office of Management and Budget, New Executive Office Building, Room 10235, Washington, DC 20503, or e-mail to mmenchik@omb.eop.gov

Final approval under OMB delegated authority of the extension for three years, without revision, of the following reports:

(1) Report title: Disclosure and Reporting Requirements of CRA-Related Agreements

Agency form number: Reg G

OMB control number: 7100-0299

Frequency: On occasion, annual

Reporters: Insured depository institutions (IDIs) and nongovernmental entities or persons (NGEPs)

Annual reporting hours: 78 hours

Number of respondents: 3 IDI; 6 NGEPs

Estimated average hours per response: 1 hour (7 disclosure requirements); 4 hours (2 annual reports)

General description of report: This information collection is required pursuant the Federal Deposit Insurance Act (FDI Act), 12 U.S.C. 1831y(b) and (c). The FDI Act authorizes the Federal Reserve to require the disclosure and reporting requirements of Regulation G (12 C.F.R. 207). In general, the Federal Reserve does not consider individual respondent commercial and financial information collected by the Federal Reserve pursuant to Regulation G as confidential. However, a respondent may request confidential treatment pursuant to section (b)(4) of Freedom of Information Act, 5 U.S.C 552(b)(4).

Abstract: Section 48 of the FDI Act imposes disclosure and reporting requirements on IDIs, their affiliates, and NGEPs that enter into written agreements that meet certain criteria. The written agreements must (1) be made in fulfillment of the Community Reinvestment Act of 1977 (CRA) and (2) involve funds or other resources of an IDI or affiliate with an aggregate value of more than $10,000 in a year, or loans with an aggregate principal value of more than $50,000 in a year. Section 48 excludes from the disclosure and reporting requirements any agreement between an IDI or its affiliate and an NGEP if the NGEP has not contacted the IDI or its affiliate, or a banking agency, concerning the CRA performance of the IDI.

Regulation G contains four disclosure requirements and two reporting requirements for IDIs and affiliates and three disclosure requirements and one reporting requirement for NGEPs. Please see the agency's OMB supporting statement for a summary of the disclosure and reporting requirements of Regulation G, http://www.federalreserve.gov/boarddocs/reportforms/review.cfm.

The disclosure and reporting requirements in connection with Regulation G are mandatory and apply to state member banks and their subsidiaries; bank holding companies; affiliates of bank holding companies, other than banks, savings associations, and subsidiaries of banks and savings associations; and NGEPs that enter into covered agreements with any of the aforementioned companies.

Current Actions: On October 18, 2006, the Federal Reserve published a notice in the Federal Register (71 FR 61473) requesting public comment for 60 days on the extension, without revision, of the Disclosure and Reporting Requirements of CRA-Related Agreements. The comment period for this notice expired on December 18, 2006. The Federal Reserve did not receive any comments.

(2) Report title: Disclosure Requirements in Connection With Regulation H (Consumer Protections in Sales of Insurance)

Agency form number: Reg H-7

OMB control number: 7100-0298

Frequency: On occasion

Reporters: State member banks

Annual reporting hours: 14,159 hours

Number of respondents: 899

Estimated average hours per response: 1.5 minutes

General description of report: This information collection is mandatory pursuant the Federal Deposit Insurance Act, 12 U.S.C. 1831x. Since the Federal Reserve does not collect any information, no issue of confidentiality normally arises.

Abstract: Section 305 of the Gramm-Leach-Bliley Act requires financial institutions to provide written and oral disclosures to consumers in connection with the initial sale of an insurance product or annuity concerning its uninsured nature and the existence of the investment risk, if appropriate, and the fact that insurance sales and credit may not be tied.

Covered persons must make insurance disclosures before the completion of the initial sale of an insurance product or annuity to a consumer. The disclosure must be made orally and in writing to the consumer that: (1) the insurance product or annuity is not a deposit or other obligation of, or guaranteed by, the financial institution or an affiliate of the financial institution; (2) the insurance product or annuity is not insured by the FDIC or any other agency of the United States, the financial institution, or (if applicable) an affiliate of the financial institution; and (3) in the case of an insurance product or annuity that involves an investment risk, there is investment risk associated with the product, including the possible loss of value.

Covered persons must make a credit disclosure at the time a consumer applies for an extension of credit in connection with which an insurance product or annuity is solicited, offered, or sold. The disclosure must be made orally and in writing that the financial institution may not condition an extension of credit on either: (1) the consumer's purchase of an insurance product or annuity from the financial institution or any of its affiliates; or (2) the consumer's agreement not to obtain, or a prohibition on the consumer from obtaining, an insurance product or annuity from an unaffiliated entity.

Current Actions: On October 18, 2006, the Federal Reserve published a notice in the Federal Register (71 FR 61473) requesting public comment for 60 days on the extension, without revision, of the Disclosure Requirements in Connection With Regulation H. The comment period for this notice expired on December 18, 2006. The Federal Reserve did not receive any comments.

(3) Report title: Domestic Branch Notification

Agency form number: FR 4001

OMB Control number: 7100-0097

Frequency: On occasion

Reporters: State member banks

Annual reporting hours: 2,244 hours

Estimated average hours per response: 30 minutes for expedited notifications; 1 hour for nonexpedited notifications

Number of respondents: 382 expedited; 2,053 nonexpedited

General description of report: This information collection is mandatory per Section 9(3) of the Federal Reserve Act (12 U.S.C. § 321) and is not given confidential treatment.

Abstract: The Federal Reserve Act and Regulation H require a state member bank to seek prior approval of the Federal Reserve System before establishing or acquiring a domestic branch. Such requests for approval must be filed as notifications at the appropriate Reserve Bank for the state member bank. Due to the limited information that a state member bank generally has to provide for branch proposals, there is no formal reporting form for a domestic branch notification. A state member bank is required to notify the Federal Reserve by letter of its intent to establish one or more new branches, and provide with the letter evidence that public notice of the proposed branch(es) has been published by the state member bank in the appropriate newspaper(s). The Federal Reserve uses the information provided to fulfill its statutory obligation to review any public comment on proposed branches before acting on the proposals, and otherwise to supervise state member banks.

Current Actions: On October 18, 2006, the Federal Reserve published a notice in the Federal Register (71 FR 61472) requesting public comment for 60 days on the extension, without revision, of the Domestic Branch Notification. The comment period for this notice expired on December 18, 2006. The Federal Reserve did not receive any comments.

Board of Governors of the Federal Reserve System, January 8, 2007.
Jennifer J. Johnson,
Secretary of the Board.

[FR Doc. E7-247 Filed 1-10-07 8:45 am]

BILLING CODE 6210-01-S